DEPARTMENT OF THE INTERIOR

Bureau of Reclamation

[RR04084000, XXXR4081X1, RN.20350010.REG0000]

Colorado River Basin Salinity Control Advisory Council Notice of Public Meeting

AGENCY: Bureau of Reclamation, Interior.

ACTION: Notice of public meeting.

SUMMARY: The Bureau of Reclamation is publishing this notice to announce that a Federal Advisory Committee meeting of the Colorado River Basin Salinity Control Council (Council) will take place.

DATES: The Council will convene the meeting on Wednesday, June 5, 2019, at 1:00 p.m. and adjourn at approximately 5:00 p.m. The Council will reconvene the meeting on Thursday, June 6, 2019, at 8:30 a.m. and adjourn the meeting at approximately 11:00 a.m.

ADDRESSES: The meeting will be held at the Colorado State Capitol Building, Old State Library, Room 271, 200 East Colfax Avenue, Denver, Colorado 80203.

FOR FURTHER INFORMATION CONTACT: Kib Jacobson, telephone (801) 524-3753; email at kjacobson@usbr.gov; facsimile (801) 524-3847.

SUPPLEMENTARY INFORMATION: The meeting of the Council is being held under the provisions of the Federal Advisory Committee Act of 1972. The Council was established by the Colorado River Basin Salinity Control Act of 1974 (Pub. L. 93-320) (Act) to receive reports and advise Federal agencies on implementing the Act.

Purpose of the Meeting: The purpose of the meeting is to discuss and take appropriate actions regarding the following: (1) The Basin States Program created by Public Law 110-246, which amended the Act; (2) responses to the Advisory Council Report; and (3) other items within the jurisdiction of the Council.

Agenda: Council members will be updated and briefed on the status of (1) the Bureau of Reclamation's Basinwide and Basin States salinity control programs, (2) the Bureau of Land Management's and Natural Resources Conservation Service's salinity control programs, and (3) other salinity control activities occurring in the Colorado River Basin.

Meeting Accessibility/Special Accommodations: The meeting is open to the public and seating is on a first-come basis. Individuals requiring special accommodations to access the public meeting should contact Mr. Kib Jacobson by email at kjacobson@usbr.gov, or by telephone at (801) 524-3753, at least five (5) business days prior to the meeting so that appropriate arrangements can be made.

Public Disclosure of Comments: To the extent that time permits, the Council chairman will allow public presentation of oral comments at the meeting. Any member of the public may file written statements with the Council before, during, or up to 30 days after the meeting either in person or by mail. To allow full consideration of information by Council members, written notice must be provided to Mr. Kib Jacobson, Bureau of Reclamation, Upper Colorado Regional Office, 125 South State Street, Room 8100, Salt Lake City, Utah 84138-1147; email at kjacobson@usbr.gov; facsimile (801) 524-3847; at least five (5) business days prior to the meeting. Any written comments received prior to the meeting will be provided to Council members at the meeting.

Before including your address, phone number, email address, or other personal identifying information in your comment, you should be aware that your entire comment—including your personal identifying information—may be made publicly available at any time. While you can ask us in your comment to withhold your personal identifying information from public review, we cannot guarantee that we will be able to do so.

Dated: April 1, 2019.
Brent Rhees,
Regional Director, Upper Colorado Region.

[FR Doc. 2019-10138 Filed 5-15-19; 8:45 am]

BILLING CODE 4332-90-P